DEPARTMENT OF THE INTERIOR

National Park Service

[NPS-WASO-NAGPRA-NPS0025610: PPWOCRADN0-PCU00RP14.R50000]

Notice of Inventory Completion: University of Nevada, Las Vegas, Department of Anthropology, Las Vegas, NV

AGENCY: National Park Service, Interior.

ACTION: Notice.

SUMMARY: The University of Nevada, Las Vegas, (UNLV) Department of Anthropology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the UNLV Department of Anthropology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the UNLV Department of Anthropology at the address in this notice by by July 18, 2018.

ADDRESSES: Dr. Barbara Roth, Department of Anthropology, University of Nevada, Las Vegas, Box 455003, 4505 S. Maryland Parkway, Las Vegas, NV 89154 telephone (702) 895-3646, email Barbara.Roth@unlv.edu.

SUPPLEMENTARY INFORMATION: Notice is here given in accordance with the Native American Graves Protection and Repatriation Act (NAGPRA), 25 U.S.C. 3003, of the completion of an inventory of human remains and associated funerary objects under the control of the UNLV Department of Anthropology. The human remains and associated funerary objects were removed from Indian Springs, Clark County, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the UNLV Department of Anthropology professional staff in consultation with representatives of the Duckwater Shoshone Tribe of the Duckwater Reservation, Nevada; Paiute-Shoshone Tribe of the Fallon Reservation and Colony, Nevada; Pyramid Lake Paiute Tribe of the Pyramid Lake Reservation, Nevada; Shoshone-Paiute Tribes of the Duck Valley Reservation, Nevada; and Yerington Paiute Tribe of the Yerington Colony & Campbell Ranch, Nevada.

History and Description of the Remains

On an unknown date, human remains representing, at minimum, one individual were removed from Indian Springs in Clark County, NV. The human remains, designated as AHUR 142 (also referred to as AHUR 142X), were collected by Mr. Robert Hopkins and subsequently given to Dr. Sheilagh Brooks, an anthropologist in the Department of Anthropology at UNLV. They consist of the mostly complete mummified remains of an infant between 0 and 12 months old. No known individuals were identified. The four associated funerary objects are a necklace of tubular bone beads found around the left arm and neck, wooden sticks belonging to a cradleboard, vegetable fibers that served as matting, and a rope.

The human remains were collected near the town of Indian Springs, located 45 miles north of Las Vegas. Indian Springs is within the western Paiute and Shoshone traditional occupation area. Ted Howard, Cultural Resources Director for the Shoshone-Paiute Tribes of the Duck Valley Reservation, NV, has indicated that the cradle is typical of those used by Great Basin Native Americans. Archeological research confirms that the cradleboard and other funerary objects are consistent with assemblages found within the territory occupied by the western Paiute and Shoshone in the historic and pre-European contact eras.

Determinations Made by the University of Nevada, Las Vegas (UNLV) Department of Anthropology

Officials of the UNLV Department of Anthropology have determined that:

• Pursuant to 25 U.S.C. 3001(9), the human remains described in this notice represent the physical remains of one individual of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Alturas Indian Rancheria, California; Arapaho Tribe of the Wind River Reservation, Wyoming; Big Pine Paiute Tribe of the Owens Valley (previously listed as the Big Pine Band of Owens Valley Paiute Shoshone Indians of the Big Pine Reservation, California); Bishop Paiute Tribe (previously listed as the Paiute-Shoshone Indians of the Bishop Community of the Bishop Colony, California); Bridgeport Indian Colony (previously listed as the Bridgeport Paiute Indian Colony of California); Buena Vista Rancheria of the Me-Wuk Indians of California; Cedarville Rancheria, California; Chemehuevi Indian Tribe of the Chemehuevi Reservation, California; Confederated Tribes of the Goshute Reservation, Nevada and Utah; Death Valley Timbi-sha Shoshone Tribe (previously listed as the Death Valley Timbi-Sha Shoshone Band of California); Duckwater Shoshone Tribe of the Duckwater Reservation, Nevada; Ely Shoshone Tribe of Nevada; Fort Independence Indian Community of Paiute Indians of the Fort Independence Reservation, California; Fort McDermitt Paiute and Shoshone Tribes of the Fort McDermitt Indian Reservation, Nevada and Oregon; Kaibab Band of Paiute Indians of the Kaibab Indian Reservation, Arizona; Las Vegas Tribe of Paiute Indians of the Las Vegas Indian Colony, Nevada; Lone Pine Paiute-Shoshone Tribe (previously listed as the Paiute-Shoshone Indians of the Lone Pine Community of the Lone Pine Reservation, California); Lovelock Paiute Tribe of the Lovelock Indian Colony, Nevada; Moapa Band of Paiute Indians of the Moapa River Indian Reservation, Nevada; Northwestern Band of the Shoshone Nation (previously listed as Northwestern Band of Shoshoni Nation and the Northwestern Band of Shoshoni Nation of Utah (Washakie)); Paiute Indian Tribe of Utah (Cedar Band of Paiutes, Kanosh Band of Paiutes, Indian Peaks Band of Paiutes (formerly Paiute Indian Tribe of Utah (Cedar City Band of Paiutes, Kanosh Band of Paiutes, Indian Peaks Band of Paiutes, and Shivwits Band of Paiutes)); Paiute-Shoshone Tribe of the Fallon Reservation and Colony, Nevada; Pyramid Lake Paiute Tribe of the Pyramid Lake Reservation, Nevada; Reno-Sparks Indian Colony, Nevada; San Juan Southern Paiute Tribe of Arizona; Shoshone-Bannock Tribes of the Fort Hall Reservation; Shoshone-Paiute Tribes of the Duck Valley Reservation, Nevada; Summit Lake Paiute Tribe of Nevada; Te-Moak Tribe of Western Shoshone Indians of Nevada (Four constituent bands: Battle Mountain Band; Elko Band; South Fork Band and Wells Band); Utu Utu Gwaitu Paiute Tribe of the Benton Paiute Reservation, California; Walker River Paiute Tribe of the Walker River Reservation, Nevada; Washoe Tribe of Nevada and California (Carson Colony, Dresslerville Colony, Woodfords Community, Stewart Community & Washoe Ranches); Winnemucca Indian Colony of Nevada; Yerington Paiute Tribe of the Yerington Colony & Campbell Ranch, Nevada; and Yomba Shoshone Tribe of the Yomba Reservation, Nevada (hereinafter referred to as “The Tribes”).

Additional Requestors and Disposition

Lineal descendants or representatives of any Indian Tribe or Native Hawaiian organization not identified in this notice that wish to request transfer of control of these human remains and associated funerary objects should submit a written request with information in support of the request to Dr. Barbara Roth, Department of Anthropology, University of Nevada, Las Vegas, Box 455003, 4505 S. Maryland Parkway, Box 455003, Las Vegas, NV 89154, telephone (702) 895-3646, email Barbara.Roth@unlv.edu, by July 18, 2018. After that date, if no additional requestors have come forward, transfer of control of the human remains and associated funerary objects to The Tribes may proceed.

The UNLV Department of Anthropology is responsible for notifying The Tribes that this notice has been published.

Dated: May 15, 2018.
Melanie O'Brien,
Manager, National NAGPRA Program.

[FR Doc. 2018-13029 Filed 6-15-18; 8:45 am]

BILLING CODE 4312-52-P